DEPARTMENT OF COMMERCE

National Oceanic and Atmospheric Administration

RIN 0648-XH73

Gulf of Mexico Fishery Management Council; Public Hearings; Cancellation

AGENCY: National Marine Fisheries Service (NMFS), National Oceanic and Atmospheric Administration (NOAA), Commerce.

ACTION: Notice of public hearings.

SUMMARY: The Gulf of Mexico Fishery Management Council is cancelling the previously published public hearing on Aquaculture Amendment scheduled on Wednesday, May 28, 2008. The Council will publish a Federal Register notice when dates for this hearing are set.

DATES: The public hearing scheduled to convene at 6 pm on Wednesday, May 28, 2008 and conclude no later than 9 pm has been cancelled and will be rescheduled at a later date.

Council address: Gulf of Mexico Fishery Management Council, 2203 North Lois Avenue, Suite 1100, Tampa, Florida 33607.

FOR FURTHER INFORMATION CONTACT: Wayne Swingle, Executive Director; telephone: 813-348-1630.

SUPPLEMENTARY INFORMATION: The original notice published in the Federal Register on May 12, 2008 (73 FR 26963). All other information contained in the original notice remains unchanged. Copies of the Amendment can be obtained by calling the Council office at 813-348-1630.

Dated: May 12, 2008.
Tracey L. Thompson,
Acting Director, Office of Sustainable Fisheries, National Marine Fisheries Service.

[FR Doc. E8-10867 Filed 5-14-08; 8:45 am]

BILLING CODE 3510-22-S